DEPARTMENT OF THE INTERIOR

Fish and Wildlife Service

[FWS-R1-ES-2017-N081; FXES11130100000-178-FF01E00000]

U.S. Endangered Species; Receipt of Recovery Permit Applications

AGENCY: Fish and Wildlife Service, Interior.

ACTION: Notice of receipt of permit applications; request for comments.

SUMMARY: We, the U.S. Fish and Wildlife Service (Service), invite the public to comment on applications for permits to conduct activities intended for scientific purposes that promote recovery or to enhance the propagation or survival of endangered species. With some exceptions, the Endangered Species Act (ESA) prohibits certain activities that constitute take of listed species unless a Federal permit is issued that allows such activity. The ESA also requires that we invite public comment before issuing these permits.

DATES: To ensure consideration, we must receive your written comments by August 11, 2017.

ADDRESSES: Documents and other information submitted with the applications are available for review, subject to the requirements of the Privacy Act and the Freedom of Information Act, by any party who submits a written request for a copy of such documents to the following office within 30 days of the date of publication of this notice: Program Manager, Restoration and Endangered Species Classification, Ecological Services, U.S. Fish and Wildlife Service, Pacific Regional Office, 911 NE 11th Avenue, Portland, OR 97232-4181.

Submitting Comments: You may submit comments by one of the following methods. Please specify the applicant name(s) and permit number(s) to which your comments pertain (e.g., TE-25955C).

• Email: permitsR1ES@fws.gov. Please refer to the respective permit number (e.g., TE-25955C) in the subject line of your email message.

• U.S. Mail: Program Manager, Restoration and Endangered Species Classification, Ecological Services, U.S. Fish and Wildlife Service, Pacific Regional Office, 911 NE 11th Avenue, Portland, OR 97232-4181.

FOR FURTHER INFORMATION CONTACT: Colleen Henson, Recovery Permits Coordinator, Ecological Services, (503) 231-6131 (phone); permitsR1ES@fws.gov (email).

SUPPLEMENTARY INFORMATION:

Background

The ESA prohibits certain activities with endangered and threatened species unless authorized by a Federal permit. The ESA and our implementing regulations in part 17 of title 50 of the Code of Federal Regulations (CFR) provide for the issuance of such permits and require that we invite public comment before issuing permits for activities involving endangered species.

A recovery permit issued by us under section 10(a)(1)(A) of the ESA authorizes the permittee to conduct activities with endangered or threatened species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

In accordance with section 10(c) of the ESA; Executive Order 13576, “Delivering an Efficient, Effective, and Accountable Government”; and the President's Memorandum for the Heads of Executive Departments and Agencies of January 21, 2009, “Transparency and Open Government” (74 FR 4685; January 26, 2009), all of which call on Federal agencies to promote openness and transparency in Government by disclosing information to the public, we invite public comment on these permit applications before final action is taken.

Permit Applications Available for Review and Comment

We invite local, county, State, and Federal agencies, Tribes, and the public to comment on the following applications.

Application No. | Applicant | Species | Location | Activity | Type of take | Permit action
TE-702631 | U.S. Fish and Wildlife Service, Pacific Regional Office, Portland, Oregon | Refer to the following Web site for a list of species associated with this application: http://www.fws.gov/pacific/ecoservices/endangered/recovery/Region_1_All_Listed_Species_20170501.pdf | Throughout the range of the species within Hawaii, Idaho, Oregon, Washington, American Samoa, Commonwealth of the Northern Mariana Islands, Guam, and the Pacific Trust Territories | Ecological studies and recovery actions | Animals: Various activities including survey, capture, handle, mark, monitor, propagate, and release Plants: Various activities including survey, collect, propagate, and outplant | Amend.
TE-40123A | U.S. Army Garrison, Pohakuloa Training Area, Hilo, Hawaii | Sicyos macrophyllus (`anunu), Festuca hawaiiensis (no common name), Portulaca villosa (ihi), Schiedea hawaiiensis (ma`oli`oli), Exocarpos menziesii (heau) | Hawaii | Propagation and outplanting | Remove and reduce to possession, propagation, outplanting | Amend.
TE-19806C | Environmental Solutions & Innovations, Inc., Cincinnati, Ohio | yellow-faced bees (Hylaeus anthracinus, H. assimulans, H. facilis, H. kuakea, H. longiceps, H. mana, and H. hilaris) | Hawaii | Population and genetic studies | Survey, capture, collect, collect DNA samples | New.
TE-25955C | Melissa Price, University of Hawaii—Manoa, Honolulu, Hawaii | Band-rumped storm-petrel (Oceanodroma castro), Hawaiian stilt (Himantopus mexicanus knudseni) | Island of Oahu | Population and genetic studies | Survey for stilts; Survey, capture, handle, band, bio-sample, release petrels | New.
TE-018078 | Hawaii Volcanoes National Park | Exocarpos menziesii, Joinvillea ascendens ssp. ascendens, Ochrosia haleakalae, Phyllostegia stachyoides, Portulaca villosa, Ranunculus hawaiensis, Sanicula sandwicensis, and Sicyos macrophyllus | Island of Hawaii | Propagation and outplanting | Remove and reduce to possession, propagation, outplanting | Amend.

Public Availability of Comments

Before including your address, phone number, email address, or other personal identifying information in your comment, you should be aware that your entire comment—including your personal identifying information—may be made publicly available at any time. If you submit a hardcopy comment that includes personal identifying information, you may request at the top of your document that we withhold this information from public review; however, we cannot guarantee that we will be able to do so.

Contents of Public Comments

Please make your comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) those that include citations to, and analyses of, the applicable laws and regulations.

Next Steps

If the Service decides to issue permits to any of the applicants listed in this notice, we will publish a notice in the Federal Register.

Authority: Section 10(c) of the Endangered Species Act of 1973, as amended (16 U.S.C. 1531 et seq.)

Dated: May 26, 2017.
Jason Holm,
Acting Deputy Regional Director, Pacific Region, U.S. Fish and Wildlife Service.

[FR Doc. 2017-14581 Filed 7-11-17; 8:45 am]

BILLING CODE 4333-15-P